DEPARTMENT OF TRANSPORTATION

Federal Aviation Administration

14 CFR Part 39

[Docket No. 2003-NM-74-AD; Amendment 39-13719; AD 2004-14-10]

RIN 2120-AA64

Airworthiness Directives; McDonnell Douglas Model MD-11 and -11F Airplanes

AGENCY: Federal Aviation Administration, DOT.

ACTION: Final rule.

SUMMARY: This amendment supersedes an existing airworthiness directive (AD), applicable to certain McDonnell Douglas Model MD-11 and -11F airplanes, that currently requires, among other actions, replacing the ground support bracket(s); and rerouting the ground cables of the galley external power and main external power, as applicable. This amendment requires replacing ground support brackets with new brackets, and replacing ground cables of the galley external power and main external power with new cables; as applicable. This amendment also requires an inspection to detect the presence of a fillet seal at the ground brackets and to detect excessive length and correct terminations of the ground cables of the galley and main external power, as applicable; and corrective actions if necessary. The actions specified by this AD are intended to prevent arcing and heat damage to the attachment points of the main external and galley power receptacle ground wire, insulation blankets outboard and aft of the receptacle area, and adjacent power cables, which could result in smoke and fire in the forward cargo compartment. This action is intended to address the identified unsafe condition.

DATES: Effective August 13, 2004.

The incorporation by reference of a certain publication listed in the regulations is approved by the Director of the Federal Register as of August 13, 2004.

ADDRESSES: The service information referenced in this AD may be obtained from Boeing Commercial Airplanes, Long Beach Division, 3855 Lakewood Boulevard, Long Beach, California 90846, Attention: Data and Service Management, Dept. C1-L5A (D800-0024). This information may be examined at the Federal Aviation Administration (FAA), Transport Airplane Directorate, Rules Docket, 1601 Lind Avenue, SW., Renton, Washington; or at the FAA, Los Angeles Aircraft Certification Office, 3960 Paramount Boulevard, Lakewood, California; or at the National Archives and Records Administration (NARA). For information on the availability of this material at NARA, call (202) 741-6030, or go to: http://www.archives.gov/federal_register/code_of_federal_regulations/ibr_locations.html.

FOR FURTHER INFORMATION CONTACT: Brett Portwood, Aerospace Engineer, Systems and Equipment Branch, ANM-130L, FAA, Los Angeles Aircraft Certification Office, 3960 Paramount Boulevard, Lakewood, California 90712-4137; telephone (562) 627-5350; fax (562) 627-5210.

SUPPLEMENTARY INFORMATION: A proposal to amend part 39 of the Federal Aviation Regulations (14 CFR part 39) by superseding AD 2002-14-11, amendment 39-12811 (67 FR 47651, July 19, 2002), which is applicable to certain McDonnell Douglas Model MD-11 and -11F airplanes, was published in the Federal Register on January 9, 2004 (69 FR 1549). The action proposed to require replacing ground support brackets with new brackets, and replacing ground cables of the galley external power and main external power with new cables; as applicable. The action also proposed to require an inspection to detect the presence of a fillet seal at the ground brackets and to detect excessive length and correct terminations of the ground cables of the galley and main external power, as applicable; and corrective actions if necessary.

Comments

Interested persons have been afforded an opportunity to participate in the making of this amendment. Due consideration has been given to the comments received.

Request to Allow Previously Approved Alternative Method of Compliance (AMOC)

One commenter requests that AMOCs approved previously per AD 2002-14-11 be considered approved as an AMOC with this AD. The commenter states that Boeing Service Bulletin MD11-24A138, Revision 1, was approved as an AMOC for AD 2002-14-11.

We agree and have revised the “Alternative Methods of Compliance” section of the final rule accordingly.

Requests for Editorial Changes

One commenter requests, for clarification purposes, that paragraphs (a)(1) and (a)(3) of Table 1 of the AD be revised to specify that the required actions must be done per applicable figure of the service bulletin.

We agree that clarification is necessary, but do not agree that the final rule needs to be changed. As specified in paragraph (a) of the AD, the actions specified in paragraphs (a)(1) through (a)(4) of Table 1 must be done “in accordance with the Accomplishment Instructions of Boeing Alert Service Bulletin MD11-24A138, Revision 2, dated July 11, 2003.” Paragraph 3.A., Accomplishment Instructions, of the service bulletin references figures in the service bulletin for more specific instructions for accomplishing the replacements and inspections required by this AD. However, it does not specify any applicable corrective actions for the required inspections; the applicable corrective actions are only specified in the figures of the service bulletin. Therefore, for clarification purposes, we referenced the applicable figure for accomplishing the applicable corrective actions only in paragraphs (a)(2) and (a)(4) of Table 1 of the AD.

The same commenter also requests other minor editorial changes. We agree and have revised the final rule accordingly.

Conclusion

After careful review of the available data, including the comments noted above, the FAA has determined that air safety and the public interest require the adoption of the rule with the changes previously described. The FAA has determined that these changes will neither increase the economic burden on any operator nor increase the scope of the AD.

Cost Impact

There are approximately 154 airplanes of the affected design in the worldwide fleet. The FAA estimates that 69 airplanes of U.S. registry will be affected by this AD.

The new actions that are required in this AD action will take approximately 1 work hour per airplane to accomplish, at an average labor rate of $65 per work hour. Required parts will cost approximately between $175 and $2,002 per airplane, depending on airplane configuration. Based on these figures, the cost impact of the requirements of this AD on U.S. operators is estimated to between $240 and $2,067 per airplane, depending on airplane configuration.

The cost impact figures discussed above are based on assumptions that no operator has yet accomplished any of the requirements of this AD action, and that no operator would accomplish those actions in the future if this AD were not adopted. The cost impact figures discussed in AD rulemaking actions represent only the time necessary to perform the specific actions actually required by the AD. These figures typically do not include incidental costs, such as the time required to gain access and close up, planning time, or time necessitated by other administrative actions. The manufacturer may cover the cost of replacement parts associated with this AD, subject to warranty conditions. Manufacturer warranty remedies may also be available for labor costs associated with this AD. As a result, the costs attributable to the AD may be less than stated above.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by removing amendment 39-12811 (67 FR 4751, July 19, 2002), and by adding a new airworthiness directive (AD), amendment 39-13719, to read as follows:

2004-14-10 McDonnell Douglas: Amendment 39-13719. Docket 2003-NM-74-AD. Supersedes AD 2002-14-11, Amendment 39-12811.

Applicability: Model MD-11 and -11F airplanes, as listed in Boeing Alert Service Bulletin MD11-24A138, Revision 2, dated July 11, 2003; certificated in any category.

Compliance: Required as indicated, unless accomplished previously.

To prevent arcing and heat damage to the attachment points of the main external and galley power receptacle ground wire, insulation blankets outboard and aft of the receptacle area, and adjacent power cables, which could result in smoke and fire in the forward cargo compartment, accomplish the following:

Replacement, Inspection, and Corrective Actions if Necessary

(a) Within 12 months after the effective date of this AD, accomplish the actions specified in paragraphs (a)(1) through (a)(4) of Table 1 of this AD, as applicable, in accordance with the Accomplishment Instructions of Boeing Alert Service Bulletin MD11-24A138, Revision 2, dated July 11, 2003. Any applicable corrective action must be accomplished before further flight.

Table 1.—Required Actions
For Group 1 airplanes listed in Revision 2 of the service bulletin on which previous issues of the service bulletin— | Actions—
(1) Have not been done | Replace the ground support brackets with new brackets, and replace the ground cables of the galley external power and main external power with new cables.
(2) Have been done | Do a general visual inspection to detect the presence of a fillet seal at the ground brackets and to detect excessive length and correct terminations of the ground cables of the galley and main external power. If any discrepancy is detected, do applicable corrective actions per Figure 3 of the service bulletin.

For Group 2 airplanes listed in Revision 2 of the service bulletin on which previous issues of the service bulletin— | Actions—
(3) Have not been done | Replace the ground support bracket with a new bracket, and replace the ground cables of the main external power with new cables.
(4) Have been done | Do a general visual inspection to detect the presence of a fillet seal at the ground brackets and to detect excessive length and correct terminations of the ground cables of the main external power. If any discrepancy is detected, do applicable corrective actions per Figure 4 of the service bulletin.

Note 1: For the purposes of this AD, a general visual inspection is defined as: “A visual examination of an interior or exterior area, installation, or assembly to detect obvious damage, failure, or irregularity. This level of inspection is made from within touching distance unless otherwise specified. A mirror may be necessary to enhance visual access to all exposed surfaces in the inspection area. This level of inspection is made under normally available lighting conditions such as daylight, hangar lighting, flashlight, or droplight and may require removal or opening of access panels or doors. Stands, ladders, or platforms may be required to gain proximity to the area being checked.”

Alternative Methods of Compliance

(b) In accordance with 14 CFR 39.19, the Manager, Los Angeles Aircraft Certification Office (ACO), FAA, is authorized to approve alternative methods of compliance (AMOCs) for this AD.

(c) Alternative methods of compliance, approved previously per AD 2002-14-11, amendment 39-12811, are approved as alternative methods of compliance with this AD.

Incorporation by Reference

(d) The actions shall be done in accordance with Boeing Alert Service Bulletin MD11-24A138, Revision 2, dated July 11, 2003. This incorporation by reference was approved by the Director of the Federal Register in accordance with 5 U.S.C. 552(a) and 1 CFR part 51. Copies may be obtained from Boeing Commercial Airplanes, Long Beach Division, 3855 Lakewood Boulevard, Long Beach, California 90846, Attention: Data and Service Management, Dept. C1-L5A (D800-0024). Copies may be inspected at the FAA, Transport Airplane Directorate, 1601 Lind Avenue, SW., Renton, Washington; or at the FAA, Los Angeles Aircraft Certification Office, 3960 Paramount Boulevard, Lakewood, California; or at the National Archives and Records Administration (NARA). For information on the availability of this material at NARA, call (202) 741-6030, or go to: http://www.archives.gov/federal_register/code_of_federal_regulations/ibr_locations.html.

Effective Date

(e) This amendment becomes effective on August 13, 2004.

Issued in Renton, Washington, on June 29, 2004.
Kalene C. Yanamura,
Acting Manager, Transport Airplane Directorate, Aircraft Certification Service.

[FR Doc. 04-15371 Filed 7-8-04; 8:45 am]

BILLING CODE 4910-13-P